DEPARTMENT OF HOMELAND SECURITY

Coast Guard

46 CFR Part 28

[Docket No. USCG-2003-16158]

RIN 1625-AA77

Commercial Fishing Industry Vessels

AGENCY: Coast Guard, DHS.

ACTION: Notice of withdrawal of advance notice of proposed rulemaking.

SUMMARY: The Coast Guard announces the withdrawal of this regulatory project, which involved possible amendments to Coast Guard regulations affecting uninspected United States commercial fishing, fish processing, and fish tender vessels. The possible amendments involved vessel stability and watertight integrity, risk awareness and minimization, personnel instruction and drill requirements, safety and survival equipment, and compliance documentation. Withdrawal of this regulatory project will allow the Coast Guard to focus on a new rulemaking project implementing 2010 and 2012 legislation that affects the commercial fishing industry.

DATES: The advance notice of proposed rulemaking on Commercial Fishing Industry Vessels, published on March 31, 2008, at 73 FR 16815, is withdrawn as of June 21, 2016.

FOR FURTHER INFORMATION CONTACT: If you have questions on this notice, call or email Mr. Jack Kemerer, Chief, Fishing Vessel Safety Division (CG-CVC-3), Office of Vessel Activities (CG-CVC); telephone 202-372-1249, email Jack.A.Kemerer@uscg.mil.

SUPPLEMENTARY INFORMATION:

Discussion

This is one of two Coast Guard publications that appear in today's Federal Register and that address uninspected commercial fishing industry vessels (CFVs).

• This document, announcing the withdrawal of an older rulemaking project that we began prior to 2010.

• A notice of proposed rulemaking (NPRM) for a newer rulemaking project, implementing the 2010 and 2012 statutory mandates.

We opened this older project in 2002. Its purpose was to improve safety in the commercial fishing industry, which remains one of the most hazardous occupations in the United States. As we discussed in our March 31, 2008, advance notice of proposed rulemaking (ANPRM; 73 FR 16815),¹ although existing Coast Guard regulations had resulted in improved safety on CFVs, the improvements in safety had leveled off and we concluded that additional regulatory action was needed to achieve further fatality and vessel loss reductions. We further concluded that safety could be improved significantly through new regulations for vessel stability and watertight integrity, risk awareness and minimization, personnel instruction and drill requirements, safety and survival equipment, and compliance documentation.

¹ The ANPRM public comment period originally closed on July 29, 2008, but was reopened until December 15, 2008 (see notice, 73 FR 46912, Aug. 12, 2008). Two public meetings were held in Seattle, WA, Nov. 21 and 22, 2008.

Public comments on our withdrawal of the older project are welcome, but should be submitted to the docket for the newer project. In particular, we encourage comments on whether any of the regulatory ideas discussed in our March 31, 2008 ANPRM (73 FR 16815) should be the subject of future Coast Guard regulatory action. Please see Part I of the new NPRM's preamble for information on how to submit comments, and see Part VI of that preamble for a discussion of the comments we received on the ANPRM.

Legislation enacted in 2010 and 2012 has provided the Coast Guard with additional regulatory authority over CFVs. The new legislation appears in Title VI of the Coast Guard Authorization Act of 2010, Pubic Law 111-281, 124 Stat. 2959 and in sections 303 and 305 of the Coast Guard and Maritime Transportation Act of 2012, Public Law 112-213, 126 Stat. 1563-1534. The new legislation significantly changes the Coast Guard's regulatory authority over CFVs and mandates some safety provisions that were proposed in this older project. For example, the new legislation—

• Mandates new equipment requirements for many vessels, or extends existing requirements to wider vessel populations;

• Extends Coast Guard authority over Aleutian Trade fish tenders and CFVs that operate more than 3 nautical miles offshore or that carry more than 16 individuals onboard—the vessels regulated under 46 CFR part 28, subpart C;

• Requires the Coast Guard to conduct periodic mandatory dockside examinations of vessels regulated under subpart C;

• Requires new-built, smaller CFVs regulated under subpart C to meet recreational vessel safety standards;

• Requires CFVs regulated under subpart C to document maintenance, instruction, and drills;

• Requires new-built, larger, CFVs to meet loadline and vessel classification requirements, and phases in alternate safety compliance requirements for older, larger CFVs; and

• Expands the Coast Guard's authority to terminate a vessel's operation under unsafe conditions.

These requirements are discussed at greater length in the newer project's NPRM. We have decided to focus our regulatory attention on the effective implementation of the 2010 and 2012 legislation, and we therefore withdraw this older project. This notice is issued under the authority of 5 U.S.C. 552.

Dated: June 10, 2016.
Paul F. Zukunft,
Admiral, U.S. Coast Guard, Commandant.

[FR Doc. 2016-14400 Filed 6-20-16; 8:45 am]

BILLING CODE 9110-04-P